DEPARTMENT OF HEALTH AND HUMAN SERVICES

Indian Health Service

Reimbursement Rates for Calendar Year 2012

AGENCY: Indian Health Service, HHS.

ACTION: Notice.

SUMMARY: Notice is given that the Director of Indian Health Service (IHS), under the authority of sections 321(a) and 322(b) of the Public Health Service Act (42 U.S.C. 248 and 249(b)), Public Law 83-568 (42 U.S.C. 2001(a)), and the Indian Health Care Improvement Act (25 U.S.C. 1601 et seq.), has approved the following rates for inpatient and outpatient medical care provided by IHS facilities for Calendar Year 2012 for Medicare and Medicaid beneficiaries and beneficiaries of other Federal programs. The Medicare Part A inpatient rates are excluded from the table below as they are paid based on the prospective payment system. Since the inpatient rates set forth below do not include all physician services and practitioner services, additional payment may be available to the extent that those services meet applicable requirements.

Inpatient Hospital Per Diem Rate (Excludes Physician/Practitioner Services)

Calendar Year 2012

Lower 48 States: $2,169

Alaska: $2,350

Outpatient per Visit Rate (Excluding Medicare)

Calendar Year 2012

Lower 48 States: $317

Alaska: $515

Outpatient per Visit Rate (Medicare)

Calendar Year 2012

Lower 48 States: $273

Alaska: $468

Medicare Part B Inpatient Ancillary Per Diem Rate

Calendar Year 2012

Lower 48 States: $477

Alaska: $811

Outpatient Surgery Rate (Medicare)

Established Medicare rates for freestanding Ambulatory Surgery Centers.

Effective Date for Calendar Year 2012 Rates

Consistent with previous annual rate revisions, the Calendar Year 2012 rates will be effective for services provided on/or after January 1, 2012 to the extent consistent with payment authorities including the applicable Medicaid State plan.

Dated: February 9, 2012.
Yvette Roubideaux,
Director, Indian Health Service.

[FR Doc. 2012-13627 Filed 6-5-12; 8:45 am]

BILLING CODE 4165-16-P